DEPARTMENT OF TRANSPORTATION

Federal Motor Carrier Safety Administration

[Docket No. FMCSA-2009-0081]

Notice of Fiscal Year 2010 Safety Grants and Solicitation for Applications

AGENCY: Federal Motor Carrier Safety Administration (FMCSA), DOT.

ACTION: Notice; request for comments.

SUMMARY: This notice is to inform the public of the Federal Motor Carrier Safety Administration's (FMCSA) Fiscal Year (FY) 2010 safety grant opportunities and to request public comments regarding changes to its application and award processes for grant programs. The Agency is making procedural changes in an effort to simplify and streamline its grants application and award processes. In addition, FMCSA invites comments on the proposed application deadlines for its FY 2010 (October 1, 2009 through September 30, 2010) safety grants programs. The 11 safety programs include the Motor Carrier Safety Assistance Program (MCSAP) Basic grants; MCSAP Incentive grants; MCSAP New Entrant Safety Audit grants; MCSAP High Priority grants; Commercial Motor Vehicle (CMV) Operator Safety Training grants; Border Enforcement grants (BEG); Commercial Driver's License Program Improvement (CDLPI) grants; Commercial Driver's License Information System (CDLIS) Modernization grants; Performance and Registration Information Systems Management (PRISM) grants; Safety Data Improvement Program grants (SaDIP); and the Commercial Vehicle Information Systems and Networks (CVISN) grants. Each grant program was provided for in the Agency's most recent authorization, the Safe, Accountable, Flexible, Efficient Transportation Equity Act: A Legacy for Users (SAFETEA-LU). The purpose of this notice is to provide grantees with information well in advance of the Agency's proposed FY 2010 safety grant application deadlines and to request comments on the deadlines and other changes in the Agency's safety grant programs.

DATES: Comments on the proposed application deadlines and other changes should be submitted by April 23, 2009.

ADDRESSES: You may submit comments bearing the Federal Docket Management System (FDMS) Docket ID FMCSA-2009-0081, using any of the following methods.

Federal eRulemaking Portal: Go to http://www.regulations.gov. Follow the On-Line instructions for submitting comments.

• Mail: Docket Management Facility; U.S. Department of Transportation, 1200 New Jersey Avenue, SE., West Building Ground Floor, Room W12-140, Washington, DC 20590-0001.

• Hand Delivery or Courier: West Building Grand Floor, Room W12-140, 1200 New Jersey Avenue, SE., Washington, DC, between 9 a.m. and 5 p.m., Monday through Friday, except Federal holidays.

• Fax: 1-202-493-2251.

Each submission must include the Agency name and the docket number for this Notice. Note that DOT posts all comments received without change to http://www.regulations.gov, including any personal information included in the comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgement that we received your comments, please include a self-addressed, stamped envelope or postcard or print the acknowledgement page that appears after submitting comments On-line.

Privacy Act: Anyone may search the electronic form of all comments received into any of our dockets by the name of the individual submitting the comment (or of the person signing the comment, if submitted on behalf of an association, business, labor union, etc.) You may review the DOT's complete Privacy Act statement in the Federal Register published on April 11, 2000 (65 FR 19476). This information is also available at http://DocketInfo.dot.gov.

FOR FURTHER INFORMATION CONTACT: Please contact the following FMCSA staff with questions or needed information on the Agency's grant programs:

New Entrant Safety Audits Grants—Arthur Williams, arthur.williams@dot.gov, 202-366-3695.

Border Enforcement Grants—Carla Vagnini, carla.vagnini@dot.gov, 202-366-3771.

MCSAP High Priority Grants—Cim Weiss, cim.weiss@dot.gov, 202-366-0275.

CMV Operator Safety Training Grants—Julie Otto, julie.otto@dot.gov, 202-366-0710.

CDLPI Grants—Brandon Poarch, brandon.poarch@dot.gov, 202-366-3030.

CDLIS Modernization Grants—Brandon Poarch, brandon.poarch@dot.gov, 202-366-3030.

SaDIP Grants—Betsy Benkowski, betsy.benkowski@dot.gov, 202-366-4808.

PRISM Grants—Tom Lawler, tom.lawler@dot.gov, 202-366-3866.

CVISN Grants—Julie Lane, julie.lane@dot.gov, 202-385-2391.

All staff may be reached at FMCSA, 1200 New Jersey Avenue, SE., Washington, DC 20590. Office hours are from 9 a.m. to 5 p.m., EST, Monday through Friday, except Federal holidays.

SUPPLEMENTARY INFORMATION: FMCSA recognizes that State governments and other grantees are dependent on its safety grants to develop and maintain important commercial motor vehicle (CMV) safety programs. FMCSA further acknowledges that delays in awarding grant funds may have an adverse impact on these important safety programs. As a result, FMCSA has been conducting a grants process review, in an effort to identify ways to streamline the application, award, and grants management processes, and to award grant funds earlier each fiscal year. In addition, FMCSA is making changes in the grants application, award and oversight processes to standardize application forms, increase the use of electronic documents, standardize quarterly reports and reduce the number of needed grant amendments.

First, FMCSA is considering the establishment of standardized due dates for its grant programs. In the DATES section above, we indicate the proposed schedule for the FY 2010 grant applications. These dates would then become the standing application due dates for these programs.

Second, consistent with its contract authority, FMCSA plans to enter into grant agreements beginning October 1 or as soon thereafter as administratively practicable. FMCSA intends to enter into grant agreements no later than 90 days from the date the application is due. We request comments from the States and other grant applicants on the impacts of the proposed schedule.

Third, FMCSA is considering a standard grant application form and must implement a new quarterly reporting process. FMCSA is reviewing the Standard Form 424 (“Application for Federal Assistance”) and its attachments for use throughout all of its grant programs. While each grant program may request different data in some of the data fields on the form, the use of the Standard Form 424 would be mandatory. FMCSA must adopt the Standard Form—Project Progress Report (SF-PPR) as its preferred form for quarterly reporting. FMCSA requests comment from grantees on the impacts of these changes. Again, each grant program may, in certain instances, request different data be submitted in some of the fields or boxes on the form but SF-PRR would be mandatory for quarterly reporting.

Fourth, FMCSA is increasing the use of electronic documents. As a result, the number of original copies of grant agreements required to be submitted to FMCSA will be reduced from three copies to two. In addition, FMCSA will provide most grant agreement documents electronically to its financial processing office. Grantees would, however, be required to submit the Automated Clearing House (ACH) Vendor Payment Form (SF-3881) directly to FMCSA's financial processing office by U.S. Postal Service, courier service or secure fax. We request information on any impacts of these proposed changes.

Lastly, FMCSA requests comments and suggestions from grantees concerning improvement of the application, award and grants management processes. Additional information is provided below for each individual grant program.

MCSAP Basic and Incentive Grants:

Sections 4101 and 4107 of SAFETEA-LU authorize and fund FMCSA's Motor Carrier Safety Grants for FY 2005 through FY 2009. MCSAP Basic and Incentive grants are governed by 49 U.S.C. 31102-31104 and 49 CFR Part 350. Under the Basic and Incentive grants programs, a State lead MCSAP agency, as designated by its Governor, is eligible to apply for Basic and Incentive grant funding by submitting a commercial vehicle safety plan (CVSP). See 49 CFR 350.201 and 205. Pursuant to 49 CFR 350.303, FMCSA will reimburse each lead State MCSAP agency 80 percent of eligible costs incurred in a fiscal year. Each State will provide a 20 percent match to qualify for the program. In accordance with 49 CFR 350.323, the Basic grant funds will be distributed proportionally to each State's lead MCSAP agency using the following four, equally weighted (25 percent) factors:

(1) 1997 road miles (all highways) as defined by the FMCSA;

(2) All vehicle miles traveled (VMT) as defined by the FMCSA;

(3) Population—annual census estimates as issued by the U.S. Census Bureau; and

(4) Special fuel consumption (net after reciprocity adjustment) as defined by the FMCSA.

A State's lead MCSAP agency may qualify for Incentive Funds if it can demonstrate that the State's CMV safety program has shown improvement in any or all of the following five categories:

(1) Reduction in the number of large truck-involved fatal accidents;

(2) Reduction in the rate of large-truck-involved fatal accidents or maintenance of a large-truck-involved fatal accident rate that is among the lowest 10 percent of such rates for MCSAP recipients and is not higher than the rate most recently achieved;

(3) Upload of CMV accident reports in accordance with current FMCSA policy guidelines;

(4) Verification of Commercial Driver's Licenses during all roadside inspections; and

(5) Upload of CMV inspection data in accordance with current FMCSA policy guidelines.

Incentive funds will be distributed in accordance with 49 CFR 350.327(b).

Prior to the start of each fiscal year, FMCSA calculates the amount of Basic and Incentive funding each State is expected to receive. This information is provided to the States and is made available on the Agency's Web site. The FY 2009 information is available at http://www.fmcsa.dot.gov/documents/safety-security/ATTCHMNT3-Est-09-Funding-Planning-Dist.pdf.

It should be noted that MCSAP Basic and Incentive grants are awarded based on the State's submission of the CVSP. The evaluation factors described in the section below titled “Application Information for FY 2010 Grants” will not be considered and submission of applications to grants.gov is not necessary.

New Entrant Safety Audit Grants:

Sections 4101 and 4107of SAFETEA-LU also authorize and fund the Motor Carrier Safety Grants for FY 2005 through FY 2009 to enable grant recipients to conduct interstate New Entrant safety audits consistent with 49 CFR Parts 350.321 and 385.301. Eligible recipients are State agencies, local governments, and organizations representing government agencies that use and train qualified officers and employees in coordination with State motor vehicle safety agencies. The FMCSA's share of these grant funds will be 100 percent. New Entrant grant applications must be submitted electronically through grants.gov (http://www.grants.gov).

MCSAP High Priority Grants:

Section 4101 of SAFETEA-LU also authorizes and funds the Motor Carrier Safety Grants for FY 2005 through FY 2009 to enable recipients to carry out activities and projects that improve CMV safety and compliance with CMV regulations. Funding is available for projects that are national in scope, increase public awareness and education, demonstrate new technologies and reduce the number and rate of CMV accidents. Eligible recipients are State agencies, local governments, and organizations representing government agencies that use and train qualified officers and employees in coordination with State motor vehicle safety agencies.

For grants awarded for public education activities, the Federal share will be 100 percent. For all High Priority grants other than those awarded in support of public education activities, the FMCSA will provide reimbursements for no more than 80 percent of all eligible costs, and recipients will be required to provide a 20 percent match. FMCSA may reserve High Priority funding exclusively for innovative traffic enforcement projects, with particular emphasis on work zone enforcement and rural road safety. Also, FMCSA may reserve funding for an innovative traffic enforcement initiative known as “Ticketing Aggressive Cars and Trucks” or TACT. TACT provides a research-based safety model that can be replicated by States when conducting a high-visibility traffic enforcement program to promote safe driving behaviors among car and truck drivers. The objective of this program is to reduce the number of commercial truck and bus related crashes, fatalities and injuries resulting from improper operation of motor vehicles and aggressive driving behavior. More information regarding TACT can be found at http://www.fmcsa.dot.gov/safety-security/tact/abouttact.htm.

High Priority grant applications must be submitted electronically through grants.gov.

CMV Operator Safety Training Grants:

Section 4134 of SAFETEA-LU establishes a grant program which enables recipients to train current and future drivers in the safe operation of CMVs, as defined in 49 U.S.C. 31301(4). Eligible awardees include State governments, local governments and accredited post-secondary educational institutions (public or private) such as colleges, universities, vocational-technical schools and truck driver training schools. Funding priority for this discretionary grant funding will be given to regional or multi-state educational or nonprofit associations serving economically distressed regions of the United States. The Federal share of these funds will be 80 percent, and recipients will be required to provide a 20 percent match. CMV Operator Safety Training grant applications must be submitted electronically through grants.gov.

Border Enforcement Grants (BEG):

Section 4110 of SAFETEA-LU established the BEG program. The purpose of this discretionary program is to provide funding for border CMV safety programs and related enforcement activities and projects. An entity or a State that shares a land border with another country is eligible to receive this grant funding. Eligible awardees include State governments, local governments, and entities (i.e., accredited post-secondary public or private educational institutions such as universities). Requests from entities must be coordinated with the State lead CMV inspection agency. Applications must include a Border Enforcement Plan and meet the required maintenance of expenditure requirement. BEG funding decisions take into consideration the State or entity's performance on previous BEG awards; its ability to expend the awarded funds with the BEG performance year; and activities meeting the BEG national criteria established by the FMCSA. As established by SAFETEA-LU, the Federal share of these funds will be 100 percent, and there is no matching requirement. BEG grant applications must be submitted electronically through grants.gov.

CDLPI Grants:

Section 4124 of SAFETEA-LU includes a discretionary grant program that provides funding for improving States' implementation of the Commercial Driver's License (CDL) program, including expenses for computer hardware and software, publications, testing, personnel, training. Funds may not be used to rent, lease, or buy land or buildings. The agency designated by each State as the primary driver licensing agency responsible for the development, implementation, and maintenance of the CDL program is eligible to apply for grant funding. State grant proposals must include the State's assessment of its CDL and a detailed budget explaining how the funds will be used. The Federal share of funds for projects awarded under this grant is established by SAFETEA-LU as 100 percent. Therefore, there is no State matching requirement. The funding opportunity announcement on grants.gov will provide more detailed information on the application process; national funding priorities for FY 2010; evaluation criteria; required documents and certifications; State maintenance of expenditure requirements; and additional information related to the availability of funds. CLDPI grant applications must be submitted electronically through grants.gov.

CDLIS Modernization Grants:

Section 4123 of SAFETEA-LU includes a discretionary grant program that provides funding for modernization of CDLIS. This section includes funds for States to upgrade their driver licensing information systems for the specific purpose of making them compatible with the new modernized CDLIS specifications. The agency in each State designated as the primary driver licensing agency responsible for the development, implementation, and maintenance of the CDL program is eligible to apply for grant funding. The Federal share of the funds for projects awarded under this grant is established by SAFETEA-LU as 80 percent; there is a 20 percent matching requirement. States may use in-kind contributions to meet this matching requirement (including annual CDLIS pointer fees). Funds are available to any State that is in substantial compliance with the requirements of 49 U.S.C. 31311 and submits a grant proposal that qualifies under the conditions in this notice, including assuming the responsibility of incorporating the new CDLIS specifications and improving its commercial driver licensing system. State grant proposals must include a detailed budget explaining how the funds will be used and how the State will meet the matching requirements. The funding opportunity announcement on grants.gov will provide more detailed information on the application process; eligible projects under the CDLIS Modernization plan; evaluation criteria; required documents and certifications; and additional information related to the availability of funds. CDLIS Modernization grant applications must be submitted electronically through grants.gov.

SaDIP Grants:

Section 4128 of SAFETEA-LU establishes a Safety Data Improvement Program (SaDIP) grant program to improve the quality of crash and inspection truck and bus data reported by the States to FMCSA, as described 49 U.S.C. 31102. Eligible recipients are State agencies, local governments, and organizations representing government agencies that are involved with highway traffic safety activities and must demonstrate a capacity to work with highway traffic safety stakeholders. The State's SaDIP proposal must focus on a project that enhances the accuracy, timeliness, and completeness of the collection and reporting of Commercial Motor Vehicle crash information in all components of the State's record system. An applicant's proposed SaDIP project must address the seven (7) performance measures for completeness, accuracy and timeliness of data reported by the States to FMCSA plus the overriding indicator established for the State Safety Data Quality (SSDQ) program. These measures can be found at: http://ai.fmcsa.dot.gov/DataQuality/dataquality.asp?redirect=methodology.asp. FMCSA will provide reimbursements for no more that 80 percent of all eligible costs and recipients are required to provide a 20 percent match.

PRISM Grants:

Section 4109 of SAFETEA-LU provides funding for States to implement the Performance and Registration Information Systems Management (PRISM) requirements that link Federal motor carrier safety information systems with State CMV registration and licensing systems to enable a State to determine the safety fitness of a motor carrier or registrant when licensing or registering or while the license or registration is in effect. PRISM grant applications must be submitted electronically through grants.gov. No matching funds are required.

CVISN Grants:

Section 4126 of SAFETEA-LU provides funding for States to deploy, operate, and maintain elements of their Commercial Vehicle Information Systems and Networks (CVISN) Program, including commercial vehicle, commercial driver, and carrier-specific information systems and networks. The agency in each State designated as the primary agency responsible for the development, implementation, and maintenance of a CVISN-related system is eligible to apply for grant funding.

Section 4126 of SAFETEA-LU distinguishes between two types of CVISN projects: Core and Expanded. To be eligible for funding of Core CVISN deployment project(s), a State must have its most current Core CVISN Program Plan and Top-Level Design approved by FMCSA and the proposed project(s) should be consistent with its approved Core CVISN Program Plan and Top-Level Design. If a State does not have a Core CVISN Program Plan and Top-Level Design, it may apply for up to $100,000 in funds to either compile or update a Core CVISN Program Plan and Top-Level Design.

A State may also apply for funds to prepare an Expanded CVISN Program Plan and Top-Level Design if FMCSA acknowledged the State as having completed Core CVISN deployment. In order to be eligible for funding of any Expanded CVISN deployment project(s), a State must have its most current Expanded CVISN Program Plan and Top-Level Design approved by FMCSA and any proposed Expanded CVISN project(s) should be consistent with its Expanded CVISN Program Plan and Top-Level Design. If a State does not have an Expanded CVISN Program Plan and Top-Level Design, it may apply for up to $100,000 in funds to either compile or update an Expanded CVISN Program Plan and Top-Level Design.

CVISN grant applications must be submitted electronically through grants.gov. Awards for approved CVISN grant applications are made on a first-come, first-served basis. States must provide a match of 50 percent.

Application Information for FY 2010 Grants: General information about the FMCSA grant programs is available in the Catalog of Federal Domestic Assistance (CFDA) which can be found on the Internet at http://www.cfda.gov. To apply for funding, applicants must register with grants.gov at http://www.grants.gov/applicants/get-registered.jsp and submit an application in accordance with instructions provided.

Evaluation Factors: The following evaluation factors will be used in reviewing the applications for all FMCSA discretionary grants:

(1) Prior performance—Completion of identified programs and goals per the project plan.

(2) Effective Use of Prior Grants—Demonstrated timely use and expensing of available funds.

(3) Cost Effectiveness—Applications will be evaluated and prioritized on the expected impact on safety relative to the investment of grant funds. Where appropriate, costs per unit will be calculated and compared with national averages to determine effectiveness. In other areas, proposed costs will be compared with historical information to confirm reasonableness.

(4) Applicability to announced priorities—If national priorities are included in the grants.gov notice, those grants that specifically address these issues will be given priority consideration.

(5) Ability of the applicant to support the strategies and activities in the proposal for the entire project period of performance.

Use of innovative approaches in executing a project plan to address identified safety issues.

(6) Feasibility of overall program coordination and implementation based upon the project plan.

(7) Grant specific evaluation factors as described in the grants.gov application information.

Proposed Application Due Dates: For the following grant programs, FMCSA will consider funding complete applications or plans submitted by the following dates:

SaDIP Grants—June 1, 2009.

CVISN Grants—July 15, 2009.

MCSAP Basic and Incentive Grants—August 1, 2009.

New Entrant Safety Audit Grants—September 1, 2009.

Border Enforcement Grants—September 15, 2009.

MCSAP High Priority Grants—September 15, 2009.

CMV Operator Safety Training Grants—October 1, 2009.

CDLIP Grants—November 1, 2009.

CDLIS Modernization Grants—November 1, 2009.

PRISM Grants—November 15, 2009.

FMCSA seeks comments from potential grant applicants on the impacts of this schedule on their ability to develop comprehensive applications and submit them on time. Applications submitted after due dates may be considered on a case-by-case basis.

Issued on: March 19, 2009.
Anna J. Amos,
Acting Associate Administrator for Enforcement and Program Delivery.
Terry T. Shelton,
Associate Administrator for Research and Information Technology.

[FR Doc. E9-6473 Filed 3-23-09; 8:45 am]

BILLING CODE 4910-EX-P